DEPARTMENT OF COMMERCE

International Trade Administration

[C-533-900]

Granular Polytetrafluoroethylene Resin From India: Preliminary Results and Partial Recission of the Countervailing Duty Administrative Review; 2021-2022

AGENCY: Enforcement and Compliance, International Trade Administration, Department of Commerce.

SUMMARY: The U.S. Department of Commerce (Commerce) preliminarily determines that countervailable subsidies are being provided to Gujarat Fluorochemicals Limited (GFCL), a producer and exporter of granular polytetrafluoroethylene (PTFE) resin from India. The period of review (POR) is July 6, 2021, through December 31, 2022.

DATES: Applicable April 8, 2024.

FOR FURTHER INFORMATION CONTACT: Shane Subler or Robert Palmer, AD/CVD Operations, Office VIII, Enforcement and Compliance, International Trade Administration, U.S. Department of Commerce, 1401 Constitution Avenue NW, Washington, DC 20230; telephone: (202) 482-6241 or (202) 482-9068, respectively.

SUPPLEMENTARY INFORMATION:

Background

On March 31, 2023, we received a timely request for an administrative review from GFCL.¹ On May 9, 2023, Commerce published a notice of initiation of an administrative review of the countervailing duty (CVD) order ² on granular PTFE.³ On May 15, 2023, Commerce released U.S. Customs and Border Protection (CBP) entry data and stated that because only one company (GFCL) was identified in the Initiation Notice and it had entries during the POR, we selected GFCL as the only mandatory respondent in this review.⁴ On November 17, 2023, Commerce extended the deadline for the preliminary results of this review until March 28, 2024.⁵

¹ See GFCL's Letter, “Request for Administrative Review,” dated March 31, 2023.

² See Granular Polytetrafluoroethylene Resin from India and the Russian Federation: Countervailing Duty Orders, 87 FR 14509 (March 15, 2022) (Order), as amended in Granular Polytetrafluoroethylene Resin from India: Notice of Court Decision Not in Harmony With the Final Determination of Countervailing Duty Investigation; Notice of Amended Final Determination and Amended Countervailing Duty Order, 88 FR 74153 (October 30, 2023).

³ See Initiation of Antidumping and Countervailing Duty Administrative Reviews, 88 FR 29881, 29885 (May 9, 2023) (Initiation Notice).

⁴ See Memorandum, “Release of U.S. Customs Entry Data for Respondent Selection,” dated May 15, 2023.

⁵ See Memorandum, “Extension of Deadline for the Preliminary Results of Countervailing Duty Administrative Review,” dated November 17, 2023.

For a complete description of the events that followed the initiation of this review, see the Preliminary Decision Memorandum.⁶ A list of topics discussed in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Countervailing Duty Administrative Review; 2021-2022: Granular Polytetrafluoroethylene Resin from India,” dated concurrently with, and hereby adopted by, this notice (Preliminary Decision Memorandum).

Scope of the Order

The product covered by the Order is granular polytetrafluoroethylene resin from India. For a complete description of the scope of the Order, see the Preliminary Decision Memorandum.

Methodology

Commerce is conducting this CVD administrative review in accordance with section 751(a)(1)(A) of the Tariff Act of 1930, as amended (the Act). For each of the subsidy programs found to be countervailable, Commerce preliminarily determines that there is a subsidy, i.e., a financial contribution by an “authority” that gives rise to a benefit to the recipient, and that the subsidy is specific.⁷ For a full description of the methodology underlying our conclusions, see the Preliminary Decision Memorandum.

⁷ See sections 771(5)(B) and (D) of the Act regarding financial contribution; section 771(5)(E) of the Act regarding benefit; and section 771(5A) of the Act regarding specificity.

Preliminary Results of Review

As a result of this review, we preliminarily determine the following net countervailable subsidy rates for the period July 6, 2021, through December 31, 2022:

⁸ This subsidy rate applies to the period July 6, 2021, to December 31, 2021.

⁹ This subsidy rate applies to the period January 1, 2022, to December 31, 2022.

¹⁰ As discussed in the Preliminary Decision Memorandum, Commerce found Inox Leasing and Finance Limited to be cross-owned with GFCL.

Company | Subsidy rate (percent ad valorem) 2021 ⁸ | Subsidy rate (percent ad valorem) 2022 ⁹
Gujarat Fluorochemicals Limited ¹⁰ | 4.89 | 4.70

Disclosure and Public Comment

Commerce intends to disclose its calculations performed to interested parties for these preliminary results within five days of any public announcement or, if there is no public announcement, within five days of the date of publication of this notice in the Federal Register in accordance with 19 CFR 351.224(b).

Case briefs or other written comments may be submitted to the Assistant Secretary for Enforcement and Compliance.¹¹ A timeline for the submission of case briefs and written comments will be notified to interested parties at a later date. Rebuttal briefs, limited to issues raised in the case briefs, may be filed not later than five days after the date for filing case briefs.¹² Interested parties who submit case briefs or rebuttal briefs in this proceeding must submit: (1) a table of contents listing each issue; and (2) a table of authorities.¹³

¹¹ See 19 CFR 351.309(c)(1)(ii); see also 19 CFR 351.303 for general filing requirements.

¹² See 19 CFR 351.309(d); see also Administrative Protective Order, Service, and Other Procedures in Antidumping and Countervailing Duty Proceedings, 88 FR 67069, 67077 (September 29, 2023) (APO and Service Final Rule).

¹³ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁴ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results

Unless the deadline is extended pursuant to section 751(a)(3)(A) of the Act and 19 CFR 351.213(h)(2), Commerce intends to issue the final results of this administrative review, including the results of its analysis of the issues raised by the parties in any written briefs, no later than 120 days after the date of publication of these preliminary results.

Assessment Rate

In accordance with 19 CFR 351.221(b)(4)(i), we preliminarily assigned a subsidy rate in the amount shown above for GFCL. Upon completion of the administrative review, consistent with section 751(a)(1) of the Act and 19 CFR 351.212(b)(2), Commerce shall determine, and U.S. Customs and Border Protection (CBP) shall assess, countervailing duties on all appropriate entries covered by this review at the applicable ad valorem assessment rates listed for the corresponding time period (i.e., July 6, 2021, to December 31, 2021, and January 1, 2022 to December 31, 2022).

For GFCL, we intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amount shown for GFCL (and its cross-owned affiliate) listed above for 2022, the second year covered by the period of review, on shipments of subject merchandise entered, or withdrawn from warehouse, for consumption on or after the date of publication of the final results of this administrative review. For all non-reviewed firms, we will instruct CBP to continue to collect cash deposits at the most recent company-specific, or all others rate (i.e., 5.39 percent),¹⁶ applicable to the company. These cash deposit requirements, when imposed, shall remain in effect until further notice.

¹⁶ See Order.

Notification to Interested Parties

These preliminary results are issued and published pursuant to sections 751(a)(1) and 777(i)(1) of the Act, and 19 CFR 351.221(b)(4).

Dated: April 1, 2024.
Ryan Majerus,
Deputy Assistant Secretary for Policy and Negotiations, performing the non-exclusive functions and duties of the Assistant Secretary for Enforcement and Compliance.

Appendix—List of Topics Discussed in the Preliminary Decision Memorandum

I. Summary

II. Background

III. Scope of the Order

IV. Diversification of India's Economy

V. Subsidies Valuation Information

VI. Interest Rate Benchmarks and Benchmarks for Measuring the Adequacy of Remuneration

VII. Use of Facts Otherwise Available and Application of Adverse Inferences

VIII. Analysis of Programs

IX. Recommendation

[FR Doc. 2024-07348 Filed 4-5-24; 8:45 am]

BILLING CODE 3510-DS-P